DEPARTMENT OF TRANSPORTATION

Federal Aviation Administration

RTCA Program Management Committee Meeting

AGENCY: Federal Aviation Administration (FAA), U.S. Department of Transportation (DOT).

ACTION: RTCA Program Management Committee Meeting.

SUMMARY: The FAA is issuing this notice to advise the public of a meeting of RTCA Program Management Committee Meeting.

DATES: The meeting will be held December 15, 2016 08:30 a.m.-04:30 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the RTCA Program Management Committee. The agenda will include the following:

Thursday, December 15, 2016—8:30 a.m.-4:30 p.m.

1. Welcome and Introductions

2. Review/Approve

A. Meeting Summary September 22, 2016

B. Administrative Special Committee TOR Revisions

3. Publication Consideration/Approval

A. Final Draft, New Document—Minimum Aviation System Performance Standards for Aeronautical Information/Meteorological Data Link Services, prepared by SC-206

B. Final Draft, New Document—Guidance for the Development of Portable Electronic Devices (PED) Tolerance for Civil Aircraft, prepared by SC-234

C. Final Draft, Revised Document, DO-307—Aircraft Design and Certification for Portable Electronic Device (PED) Tolerance, prepared by SC-234

D. Final Draft, Revision to DO-343—Minimum Aviation System Performance Standard for AMS(R)S Data and Voice Communications Supporting Required Communications Performance (RCP) and Required Surveillance Performance (RSP) in Procedural Airspace, prepared by SC-222

E. Final Draft, New Document—Detect and Avoid Minimum Operational Performance Standards Phase I (DAA MOPS), prepared by SC-228

F. Final Draft, New Document—Minimum Operational Performance Standards (MOPS) for Air-to-Air Radar Detect and Avoid (DAA) Systems Phase 1, prepared by SC-228

G. Final Draft, Revision to DO-229D with Change 1- Minimum Operational Performance Standards for Global Positioning System/Satellite-Based Augmentation System Airborne Equipment, prepared by SC-159

4. Integration and Coordination Committee (ICC)

A. Suggested Changes to MOPS/MASPS Drafting Guides—Update

5. Past Action Item Review

A. Boeing/ARINC Winds Work Update—Presentation

B. Cross Cutting Committee Membership—Update

C. EUROCAE Harmonization Work with SC-223 and WG-82—Update

D. PBN, Speed, Spacing Task Group Final Report—Presentation

E. Response to Transportation Safety Board of Canada Letter—Update

6. Discussion

A. SC-159—Navigation Equipment Using the Global Positioning System—Discussion—Ligado Letter

B. SC-159—Navigation Equipment Using the Global Positioning System—Discussion—Revised TOR

C. SC-206—Aeronautical Information Services (AIS) and Meteorological Data Link Services—Discussion—Revised TOR

D. SC-225—Rechargeable Lithium Batteries and Battery Systems—Discussion—Update on DO-311 Revision

E. SC-213—Enhanced Flight Vision Systems/Synthetic Vision Systems—Discussion—Revised TOR

F. SC-223—Internet Protocol Suite (IPS) and Aeronautical Mobile Airport Communication System—Discussion—Revised TOR

G. NAC—Status Update

H. TOC—Status Update

I. DAC—Status Update

J. FAA Actions Taken on Previously Published Documents—Report

K. Special Committees—Chairmen's Reports and Active Inter-Special Committee Requirements Agreements (ISRA)—Review

L. European/EUROCAE Coordination—Status Update

7. Other Business

8. Schedule for Committee Deliverables and Next Meeting Date

9. New Action Item Summary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on November 3, 2016.
Mohannad Dawoud,
Management & Program Analyst, Partnership Contracts Branch, ANG-A17, NextGen, Procurement Services Division, Federal Aviation Administration.

[FR Doc. 2016-26954 Filed 11-7-16; 8:45 am]

BILLING CODE 4910-13-P